DEPARTMENT OF EDUCATION

National Assessment Governing Board; Meeting

AGENCY: National Assessment Governing Board; Education.

ACTION: Notice of full and partially closed meetings.

SUMMARY: This notice sets forth the schedule and proposed agenda of a forthcoming meeting of the National Assessment Governing Board. This notice also describes the functions of the Board. Notice of this meeting is required under section 10(a)(2) of the Federal Advisory Committee Act. This document is intended to notify the general public of their opportunity to attend. Individuals who will need accommodations for a disability in order to attend the meeting (i.e. interpreting services, assistive listening devices, materials in alternative format) should notify Munira Mwalimu at 202-357-6938 or at Munira.Mwalimu@ed.gov no later than April 30, 2001. We will attempt to meet requests after this date, but cannot guarantee availability of the requested accommodation. The meeting site is accessible to individuals with disabilities.

Dates: May 10-12, 2001.

Time: May 10—Executive Committee, 5:00-6 p.m., (open), 6:00-7 p.m. (closed). May 11—Full Board 8:30-10 a.m. (open); Assessment Development Committee 10:15 a.m.-12:15 p.m., (open); Committee on Standards, Design and Methodology, 10:15 a.m.-12:15 p.m. (open); Reporting and Dissemination Committee, 10:15 a.m.-12:15 p.m. (open); Full Board, 12:15-1:15 p.m., (closed); 1:15-5 p.m., (open). May 12—Nominations Committee, 7:30-8:30 a.m.; Full Board, 8:30 a.m.-12 p.m. (open).

Location: Loews Annapolis Hotel, 126 West Street, Annapolis, Maryland.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994 (Title IV of the Improving America's Schools Act of 1994) (Pub. L. 103-382).

The Board is established to formulate policy guidelines for the National Assessment of Educational Progress. The Board is responsible for selecting subject areas to be assessed, developing assessment objectives, identifying appropriate achievement goals for each grade and subject tested, and establishing standards and procedures for interstate and national comparisons. Under Public Law 105-78, the National Assessment Governing Board is also granted exclusive authority over developing the Voluntary National Tests pursuant to contract number RJ97153001.

The Executive Committee will meet on May 10 in open session from 5 p.m. to 6 p.m., and in closed session from 6 p.m. to 7 p.m.

In open session, the Executive Committee will receive updates on the contract for test question banking storage and security and on NAEP reauthorization, appropriations, and related legislation. The Executive Committee will also discuss the NAEP schedule.

From 6:00-7 p.m. the Committee will meet in closed session to discuss future government cost estimates on contracts for the National Assessment of Educational Progress (NAEP) project; to discuss awards for secondary grants analyses for the NAEP project; and to receive independent government cost estimates on contract initiatives for NAEP.

The meeting must be conducted in closed session because public disclosure of this information would likely have an adverse financial effect on the NAEP program. The discussion of this information would be likely to significantly frustrate implementation of a proposed agency action if conducted in open session. Such matters are protected by exemption 9(B) of 552b(c) of Title 5 U.S.C.

On May 11, the full Board will convene in open session from 8:30 a.m.-10 a.m. The Board will approve the agenda; hear a report from the Executive Director of the National Assessment Governing Board; receive a briefing from Secretary of Education Roderick Paige on the “No Child Left Behind” Initiative; and receive an update on the NAEP Program. From 10:15 a.m. to 12:15 p.m., the Board's standing committees will meet in open session.

The Assessment Development Committee will meet from 10:15 a.m.-12:15 p.m. to receive an update on various NAEP assessment development activities, including projects in mathematics, reading, and foreign language. The Committee will also receive a briefing on the content of the NAEP Long Term Trend Study.

The Committee on Standards, Design, and Methodology will meet from 10:15 a.m.-12:15 p.m. to receive an update on the 1992-1998 achievement levels publications and on the status of the Trial Urban Assessment. In addition, the Committee will review and discuss sampling plans for the 2002 NAEP and the methodology for enhanced reporting.

The Reporting and Dissemination Committee will meet from 10:15 a.m.-12:15 p.m. to discuss the sampling and reporting plan for NAEP 2002 assessments; new models for reporting achievement levels; the plan for release of the NAEP 2002 Mathematics Report; and the schedule for release of future NAEP reports. In addition, the Committee will discuss reporting data for subgroups; and the plan for private school reporting in NAEP 2002 assessments. The Reporting and Dissemination Committee will then receive an update on racial categories in NAEP reporting and discuss the background questions in reading and writing for NAEP 2002.

On May 11, the full Board will meet in closed session from 12:15-1:15 p.m. to receive a briefing on the NAEP 2000 Mathematics Report Card. This meeting must be closed because the report has not gone through complete National Center for Education Statistics (NCES) adjudication process and has not been released by the Secretary of Education. Premature disclosure of the information presented for review would be likely to significantly frustrate implementation of a proposed agency action if conducted in open session. Such matters are protected by exemption 9(B) of Section 552b(c) of Title 5 U.S.C.

The full Board will meet in open session on May 11 from 1:15-2 p.m. to receive a briefing on the Baltimore Sun's “Reading by Nine” Project. From 2:00-2:45 p.m., the Board will receive an update from Congressional staff on “NAEP/NAGB: View from the Hill.” From 3:00-4:15 p.m., the full Board will have a panel discussion on NAEP and NAGB, Past Reflections and Future Directions. Subsequently, at 4:15-5 p.m., the Board will receive a briefing on the Third International Mathematics and Science Study (TIMSS) 1999 Benchmarking Study after which the May 11 meeting will conclude.

On May 12, the Nominations Committee will convene from 7:30 a.m.-8:30 a.m. to discuss the Committee's organization and work schedule.

From 8:30-9:30 a.m., the Board will receive an update and discuss the NAEP 2004 Mathematics Framework project. The Board will then hear and take action on the Committee reports from 9:30 a.m. to 12 p.m. whereupon the meeting will adjourn.

Summaries of the activities of the closed sessions and related matters, which are informative to the public and consistent with the policy of section 5 U.S.C. 552b(c), will be available to the public within 14 days of the meeting. Records are kept of all Board proceedings and are available for public inspection at the U.S. Department of Education, National Assessment Governing Board, Suite #825, 800 North Capitol Street, NW., Washington, DC, from 8:30 a.m. to 5 p.m. Eastern Standard Time.

Dated: April 25, 2001.
Sharif Shakrani,
Deputy Executive Director, National Assessment Governing Board.

[FR Doc. 01-10863 Filed 4-30-01; 8:45 am]

BILLING CODE 4000-01-M